DEPARTMENT OF COMMERCE

International Trade Administration

[A-570-850, A-583-826]

Collated Roofing Nails from the People's Republic of China and Taiwan: Final Results of Five Year Sunset Reviews and Revocation of Antidumping Duty Orders

AGENCY: Import Administration, International Trade Administration, Department of Commerce.

ACTION: Notice of Final Results of Five Year Sunset Reviews and Revocation of Antidumping Duty Orders on Collated Roofing Nails from People's Republic of China and Taiwan.

SUMMARY: On October 1, 2002, the Department of Commerce (“the Department”) initiated sunset reviews of the antidumping duty orders on collated roofing nails from the People's Republic of China (“PRC”) and Taiwan (67 FR 61577). The Department is revoking the antidumping duty orders on collated roofing nails from the PRC and Taiwan because no domestic party responded to the sunset review notice of initiation by the applicable deadline.

EFFECTIVE DATE: November 25, 2002.

FOR FURTHER INFORMATION CONTACT: Martha V. Douthit or James P. Maeder, Office of Policy, Import Administration, International Trade Administration, U.S. Department of Commerce, 14th Street and Constitution Avenue, NW, Washington, D.C. 20230; telephone: (202) 482-5050 or (202) 482-3330, respectively.

SUPPLEMENTARY INFORMATION:

The Applicable Statute and Regulations:

Unless otherwise indicated, all citations to the Tariff Act of 1930, as amended (the “Act”), are references to the provisions effective January 1, 1995, the effective date of the amendments made to the Act by the Uruguay Round Agreements Act (“URAA”). In addition, unless otherwise indicated, all citations to the Department of Commerce's (“Department”) regulations are to 19 CFR part 351(2002).

Background:

On November 19, 1997, the Department issued antidumping duty orders on collated roofing nails from the PRC (62 FR 61729) and Taiwan (62 FR 61730). Pursuant to section 751 (c) of the Act, on October 1, 2002, the Department initiated sunset reviews of these orders by publishing notice of the initiations in the Federal Register (67 FR 61577). In addition, as a courtesy to interested parties, the Department sent letters, via certified and registered mail, to each party listed on the Department's most current service list for these proceedings to inform them of the automatic initiation of the sunset reviews on these orders. However, no domestic interested party in the sunset reviews on these orders responded to the notice of initiation by the October 16, 2002 deadline (see section 19 CFR 351.218(d)(1)(i) of Procedures for Conducting Five Year (“Sunset”) Reviews of Antidumping and Countervailing Duty Orders, 63 FR 13520 (March 20, 1998)).

Determination to Revoke

Pursuant to section 751(c)(3)(A) of the Act and section 19 CFR 351.218(d)(1)(iii)(B)(3), if no domestic interested party responds to the notice of initiation, the Department will issue a final determination, within 90 days after the initiation of the review, revoking the finding or order or terminating the suspended investigation. Because no domestic interested party in the sunset reviews of collated roofing nails from the PRC and Taiwan responded to the notice of initiation by the applicable deadline, we are revoking these antidumping duty orders.

Effective Date of Revocation

Pursuant to sections 751(c)(3)(A) and 751(d)(2) of the Act, and 19 CFR 351.222(i)(2)(i), the Department will instruct the Customs Service to terminate the suspension of liquidation of the merchandise subject to these orders entered, or withdrawn from warehouse, on or after November 19, 2002. Entries of subject merchandise prior to the effective date of revocation will continue to be subject to suspension of liquidation and antidumping duty deposit requirements. The Department will complete any pending administrative reviews of these orders and will conduct administrative reviews of subject merchandise entered prior to the effective date of revocation in response to appropriately filed requests for review.

Dated: November 19, 2002.
Bernard T. Carreau,
Acting Assistant Secretary for Import Administration.

[FR Doc. 02-29915 Filed 11-22-02; 8:45 am]

BILLING CODE 3510-DS-S